DEPARTMENT OF TRANSPORTATION

Federal Aviation Administration

14 CFR Part 71

[Docket No. FAA-2020-0490; Airspace Docket No. 18-AWA-2]

RIN 2120-AA66

Amendment of Class B Airspace; Miami, FL

AGENCY: Federal Aviation Administration (FAA), DOT.

ACTION: Final rule.

SUMMARY: This action modifies the Miami International Airport, FL (MIA) Class B airspace area to ensure the containment of aircraft conducting instrument procedures. The FAA is taking this action to improve the flow of air traffic, enhance safety, and reduce the potential for midair collision in the MIA terminal area. The changes to the MIA Class B airspace area are to ensure the containment of arriving and departing aircraft within Class B airspace as required by FAA directives as contained in FAA Order 7400.2. This action is separate and distinct from the Florida Metroplex Project.

DATES: Effective date September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Miami, FL, Class B airspace area to improve the flow of air traffic and enhance safety within the National Airspace System (NAS).

History

The FAA published a notice of proposed rulemaking for Docket No. FAA-2020-0490 in the Federal Register (86 FR 12868; March 5, 2021), modifying the Miami, FL, Class B airspace area. Interested parties were invited to participate in this rulemaking effort by submitting written comments on the proposal. Two comments were received in response to the NPRM. All comments received were considered before making a determination on the final rule.

Class B airspace designations are published in paragraph 3000 of FAA Order JO 7400.11F, dated August 10, 2021 and effective September 15, 2021, which is incorporated by reference in 14 CFR 71.1. The Class B airspace designations listed in this document will be subsequently published in FAA Order JO 7400.11.

Discussion of Comments

An anonymous commenter wrote in support of the proposed Class B modifications. The Aircraft Owners and Pilots Association (AOPA) expressed four concerns about the proposal as discussed below.

First, AOPA acknowledged FAA's action to improve the availability of Visual Flight Rules (VFR) flight following in the MIA area, but stated that recent feedback from members indicated that VFR flight following can still be difficult to obtain particularly as “FAA has indicated they are not able to provide a VFR corridor through this airspace.”

The current coronavirus (COVID-19) pandemic has impacted air traffic controller training and staffing which, at times, has limited the services controllers can provide to VFR aircraft due to workload. Within Miami Terminal Radar Approach Control (TRACON), training is resuming and staffing is returning to normal levels which will assist in creating additional opportunities to obtain/provide services to VFR aircraft when airborne. As a suggestion, VFR pilots wishing to receive air traffic control (ATC) services are encouraged to consider obtaining a VFR discreet code from ATC prior to departure.

Second, AOPA stated that the ceiling of Class D airspace areas should be consistent with the floor of the overlying Class B or C airspace. AOPA cited cases where a gap exists between the 2,500-foot Class D ceiling and the 3,000-foot floor of the overlying MIA Class B airspace; and, in the case of Miami Executive Airport (TMB), a portion of the Class D ceiling overlaps Area C of the MIA Class B airspace.

The FAA does not agree. The MIA Class B airspace was designed to support current operations and the various altitude floors are configured to ensure the containment of MIA traffic within Class B airspace once they enter it. Lowering of the Class B floors to match the ceilings of underlying Class D airspace areas was not justified by Class B design criteria or any ATC requirement. With regard to TMB's airspace, the Aeronautical Information Manual (AIM) informs pilots that, when overlapping airspace designations apply to the same airspace, the operating rules associated with the more restrictive airspace designation apply.

Third, AOPA restated its preference for the establishment of a VFR corridor through the MIA Class B airspace but expressed satisfaction that the FAA is considering the development of a VFR transition route as an alternative.

The FAA considered a VFR corridor but determined it is not feasible with current MIA area air traffic operations. As described in the AIM, VFR corridors are, in effect, a “hole” through Class B airspace in which aircraft can operate without an ATC clearance or communication with ATC. Considering local constraints, including traffic volume and traffic flows, plus the close proximity of numerous airports in the MIA area, a VFR corridor could not be established for operational and flight safety reasons.

As an alternative, the FAA designed and implemented VFR Transition Routes which became effective beginning with the February 25, 2021, aeronautical charting cycle. The routes currently are depicted on the Miami VFR Terminal Area Chart (TAC), and the Miami/South Florida VFR Flyway Planning Chart. An ATC clearance is required to fly these routes. The charted notes identify the routes and provide frequencies and altitudes to expect. Operationally, although access to the transition routes is based on controller workload, it does provide more flexibility for both controllers and pilots.

Fourth, AOPA called for the formation of a new Ad Hoc Committee to evaluate the Class B airspace changes proposed in the NPRM due to the lapse in time from the original Ad Hoc Committee and complexities as the changes.

The FAA considered the request for a second Ad Hoc Committee. After studying the recommendations from the Committee, and the public comments from the Informal Airspace Meetings, the FAA made a number of changes to the Class B design and published an NPRM for additional public comment. The FAA believes that sufficient feedback was received to proceed with rulemaking, and therefore decided not to form a second Ad Hoc Committee.

Difference From the NPRM

In the regulatory text, the longitude coordinate for Miami Executive Airport (TMB) is changed from “080°25′59″ W” to “080°26′00″ W” to comply with decimal place rounding protocols.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by modifying the Miami International Airport, FL, (MIA) Class B airspace area. This action modifies the lateral and vertical limits of Class B airspace to ensure the containment of large turbine-powered aircraft at MIA in Class B airspace once they enter the airspace, and enhance safety in the Miami terminal area (see the attached chart).

The FAA is issuing a separate final rule to modify the Fort Lauderdale-Hollywood International Airport (FLL) Class C airspace area that is located immediately to the north of the MIA Class B airspace area.

The modifications to the MIA Class B airspace area are described below.

In the text header of the MIA Class B airspace description, (as published in FAA Order JO 7400.11F), the geographic coordinates for MIA are updated to read “lat. 25°47′43″ N, long. 080°17′24″ W”. The name of the “Kendall-Tamiami Executive Airport” is changed to its current name “Miami Executive Airport”, and its geographic coordinates are updated to read “lat. 25°38′51″ N, long. 080°26′00″ W”. These changes reflect the current National Airspace System Resources database information.

Area A. Area A continues to extend upward from the surface to 7,000 feet mean sea level (MSL). This rule modifies Area A by expanding the current 6 nautical mile (NM) radius to a 7 NM radius of the MIA International Airport. This resolves issues where aircraft exit and re-enter Class B airspace on final approach. Area A is also modified by excluding that airspace “South of lat. 25°42′18″ N (SW 72nd Street in the cities of Sunset and South Miami).” This moves the southern boundary of the surface area to the north of the Dadeland Shopping Center keeping it outside the surface area, and allowing VFR aircraft to have continued use of that charted VFR checkpoint for arrivals and departures out of the TMB area.

Area B. Area B extends from 1,500 feet MSL to 7,000 feet MSL. The FAA is modifying Area B by extending the current eastern boundary from the 10 NM radius of MIA out to the 13 NM radius of the airport. This change contains MIA arrivals within Class B airspace, and provides protection for VFR aircraft transitioning under the Class B airspace. Additionally, the western boundary of Area B is moved from the current 10 NM radius of MIA slightly westward to run along Krome Avenue, providing pilots with a visual reference for that boundary. To assist with visual identification of the northern boundary of Area B (along lat. 25°53′03″ N), the street reference “NW 103rd Street/49th Street in the City of Hialeah” is added to the description.

Area C. Area C extends from 2,000 feet MSL to 7,000 feet MSL. The only change to this area is extending the boundary formed by the existing 4.3 NM radius of TMB southwestward (counterclockwise) to intersect the western boundary of the new Area H (i.e., the 13 NM radius of MIA), as described below.

Area D. Area D extends from 3,000 feet MSL to 7,000 feet MSL. Originally, the FAA proposed to expand Area D's western boundary from the current 20 NM radius west of MIA, further westward to the 25 NM radius of MIA. Based on comments received, the FAA decided to retain the western boundary of Area D at the current 20 NM radius of MIA. This rule establishes Area J (west of Area D, described below) between the 20 NM and 25 NM radii of MIA. Area J extends from 4,000 feet MSL to 7,000 feet MSL, providing additional altitudes for transiting aircraft. This rule also incorporates that airspace above TMB, that is currently designated “Area G,” into Area D. The existing Area G extends from 5,000 feet MSL to 7,000 feet MSL. Incorporating this airspace into Area D lowers the floor of Class B airspace in that area to 3,000 feet MSL. This change protects southbound departures from MIA during a west operation. The “Area G” designation is reused elsewhere in the MIA Class B as described later.

Area E. The only change to Area E is minor updates to the latitude/longitude coordinates that define the northeast side of the area for greater accuracy.

Area F. Area F extends from above 1,000 feet MSL to 7,000 feet MSL. The eastern boundary of Area F is extended from the current 6 NM radius of MIA out to the 7 NM radius of MIA. The south end of Area F is moved slightly northward to lat. 25°42′18″ N to align with the new southern boundary of Area A.

Area G. A new Area G is designated in that airspace west of Miami-Opa Locka Executive Airport that is currently designated Area H (the H designation is reused as described below). The northwestern boundary of the existing Area H is the 10 NM radius from MIA. In the new Area G, this boundary is expanded further to the northwest to align with State Road 997/Krome Avenue. The new Area G consists of that airspace extending upward from 2,000 feet MSL to and including 7,000 feet MSL, bounded on the South by lat. 25°52′03″ N (NW 103rd Street/49th Street in the City of Hialeah), on the west and northwest by State Road 997/Krome Ave, on the East by the Miami Canal (paralleling US 27), and the northern boundary point defined by the intersection of the Miami Canal and State Road 997/Krome Ave. Aligning boundaries with streets and other ground references assists pilots with visual identification of the boundaries.

Area H. Area H is a new area that extends from 2,000 feet MSL to 7,000 feet MSL. It is located directly west of the Area B western boundary. Area H is bounded on the east by State Road 997/Krome Avenue; on the south by the 4.3 NM radius of TMB (the northern boundary of Area C); and on the west by the 13 NM radius of MIA. Area H provides containment of MIA arrivals in Class B airspace. Its base altitude of 2,000 feet MSL, and the visual reference provided by Krome Avenue, allows VFR aircraft to transition just west of Krome Avenue below 2,000 feet MSL without conflicting with MIA arrivals.

Area I. Area I is a new area, located east of MIA between the 20 NM and 25 NM radii from the airport. Area I extends from 5,000 feet MSL to 7,000 feet MSL. Area I is bounded by that airspace beginning at the intersection of lat. 25°57′48″ N and the 20 NM radius of MIA, thence moving East along lat. 25°57′48″ N to the intersection of a 25 NM radius of MIA, thence moving clockwise along the 25 NM radius to the Dolphin VORTAC 151°(T)/155°(M) radial, thence Northwest along the Dolphin VORTAC 151°(T)/155°(M) radial to the intersection of a 20 NM radius of MIA, thence counter-clockwise along the 20 NM radius to the point of beginning. This expansion is needed to contain aircraft on the downwind leg within Class B airspace. The 5,000 foot MSL base altitude of Area I gives VFR aircraft transitioning the area over water the ability to fly under the Class B airspace.

Area J. Area J is a new area located west of MIA between the 20 NM and 25 NM radii from the airport. Area J extends from 4,000 feet MSL to 7,000 feet MSL. Area J is bounded by that airspace beginning northwest of MIA at the intersection of a 25 NM radius of Miami International Airport and lat. 25°57′48″ N, thence east along lat. 25°57′48″ N to the intersection of a 20 NM radius of Miami International Airport, thence counter-clockwise along the 20 NM radius to lat. 25°40′19″ N, thence west along lat. 25°40′19″ N to the intersection of a 25 NM radius of Miami International Airport, thence clockwise along the 25 NM radius to the point of beginning.

In summary, the existing MIA Class B airspace design does not currently address the rapidly increasing general aviation and air carrier operations in the South Florida terminal area. The Class B modification provides:

—Containment of MIA arrivals and departures in Class B airspace;

—Increased safety by segregation of large turbine-powered aircraft from nonparticipating; traffic during critical stages of flight;

—Improved utilization of airspace;

—Improved traffic patterns that allow for stabilized approaches;

—Reduced workload for both pilots and controllers; and,

—Enhanced overall efficiency of the movement of air traffic in the area.

FAA Order JO 7400.11, Airspace Designations and Reporting Points, is published yearly and effective on September 15.

Paperwork Reduction Act

The Paperwork Reduction Act of 1995 (44 U.S.C. 3507(d)) requires that the FAA consider the impact of paperwork and other information collection burdens imposed on the public. We have determined that there is no new information collection requirement associated with this final rule.

Regulatory Notices and Analyses

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995).

This portion of the preamble summarizes the FAA's analysis of the economic impacts of this final rule.

In conducting these analyses, the FAA has determined that this final rule: (1) is expected to have a minimal cost impact, (2) is not an economically “significant regulatory action” as defined in section 3(f) of Executive Order 12866, (3) is not significant as defined in DOT's Regulatory Policies and Procedures; (4) will not have a significant economic impact on a substantial number of small entities; (5) will not create unnecessary obstacles to the foreign commerce of the United States; and (6) will not impose an unfunded mandate on state, local, or tribal governments, or on the private sector by exceeding the threshold identified above. These analyses are summarized below.

As discussed above, the FAA determined that changes put forth in this final rule would increase airspace safety and efficiency. The final rule would modify the lateral and vertical limits of Class B airspace around Miami International Airport (MIA) impacting commercial and general aviation flights transiting the airspace at the time of writing. The modification is in response to increased commercial and general aviation activity at and near MIA airport at the time of writing. Currently, MIA Class B airspace does not fully contain aircraft flying instrument procedures at MIA. Aircraft routinely exit and re-enter MIA Class B airspace on final approach to MIA leading to safety issues with respect to flight separation between participating and non-participating aircraft outside of Class B airspace.

The modifications proposed in this final rule are intended only to expand Class B airspace, where necessary, to contain large, turbine-powered aircraft while minimizing the impact on the use of the airspace by other aircraft. An analysis of existing MIA traffic flows shows that the Class B airspace modifications would better contain IFR flights arriving and departing MIA inside Class B airspace, and provide better separation between IFR aircraft and VFR aircraft operating in the vicinity of the Class B airspace area. Constructing sufficient airspace for safe control and separation of IFR flights improves the flow of air traffic, and more importantly enhances safety, reducing the potential for midair collision in the MIA terminal area.

The expansion to Class B airspace will affect the VFR and general aviation community. VFR operators will need to adjust their routes for the modified MIA Class B airspace. However, as mentioned above, the FAA initiated outreach between 2010 and 2019 for input and recommendations from the effected aviation community on the planned modifications to the MIA airspace. The feedback resulted in changes to the airspace design with the intent of maintaining safety and minimizing the impact to operators using the surrounding airspace.

Additionally, VFR operators can use the current north-south charted VFR Flyway below the 3,000-foot Class B floor to the west of MIA, which enables pilots to fly beneath the Class B, or contact MIA Approach to request flight following, if desired, to lessen the impact. Therefore, the FAA expects the Class B modifications in this final rule will result in minimal cost to VFR operators. The FAA requested comments on the benefits and costs of the change and received no comments with benefit or cost data.

Regulatory Flexibility Act

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The final rule modifies the Class B airspace around MIA. The change affects general aviation operators using the airspace at or near MIA. Operators flying VFR will need to adjust their flight paths to avoid the modified Class B airspace. However, the modifications to Class B airspace are intended to be the least restrictive option while maintaining safety. Additionally, VFR operators can also use the current north-south charted VFR flyway below the 3,000-foot Class B floor to the west of MIA, which enables pilots to fly beneath the Class B or VFR pilots have the option to contact Miami Approach and request flight following, if desired. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it would improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $158 million in lieu of $100 million. This final rule does not contain such a mandate; therefore, the requirements of Title II of the Act do not apply.

ICAO Considerations

Since this action involves, in part, the designation of navigable airspace outside the United States, the Administrator consulted with the Secretary of State and the Secretary of Defense in accordance with the provisions of Executive Order 10854.

Environmental Review

The FAA has determined that this action of modifying the Miami International Airport, FL, Class B airspace area to ensure the containment of arriving and departing aircraft, and to reduce the potential for midair collisions in the Miami area, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106 (f), 106(g); 40103, 40113, 40120; E.O. 10854, 24 FR 9565, 3 CFR, 1959-1963 Comp., p. 389.

§ 71.1 [Amended]

2. The incorporation by reference in 14 CFR 71.1 of the FAA Order JO 7400.11F, Airspace Designations and Reporting Points, dated August 10, 2021, and effective September 15, 2021, is amended as follows:

Paragraph 3000 Subpart B—Class B Airspace.

* * * * *

ASO FL B Miami, FL [Amended]

Miami International Airport (Primary Airport)

(Lat. 25°47′43″ N, long. 080°17′24″ W)

Miami Executive Airport (TMB)

(Lat. 25°38′51″ N, long. 080°26′00″ W)

Dolphin VORTAC (DHP)

(Lat. 25°48′00″ N, long. 080°20′57″ W)

Boundaries.

Area A. That airspace extending upward from the surface to and including 7,000 feet MSL within a 7 nautical mile radius of Miami International Airport, excluding that airspace north of at. 25°52′03″ N. (NW 103rd Street/49th Street in the City of Hialeah), and the airspace south of lat. 25°42′18″ N. (SW 72nd Street in the Cities of Sunset and South Miami), and within and underlying Area F described hereinafter.

Area B. That airspace extending upward from 1,500 feet MSL to and including 7,000 feet MSL within a 13 nautical mile radius of Miami International Airport, excluding that airspace north of lat. 25°52′03″ N (NW 103rd Street/49th Street in the City of Hialeah), and that airspace south of lat. 25°40′19″ N, within Area A previously described, and within Areas C, F, and H described hereinafter.

Area C. That airspace extending upward from 2,000 feet MSL to and including 7,000 feet MSL within an area bounded on the north and northeast by a 4.3 nautical mile radius of Miami Executive Airport (TMB), and on the south by lat. 25°40′19″ N, and on the southwest by a 13 nautical mile radius of Miami International Airport.

Area D. That airspace extending upward from 3,000 feet MSL to and including 7,000 feet MSL beginning northwest of Miami International Airport at the intersection of a 20 nautical mile radius of Miami International Airport and lat. 25°57′48″ N, thence East along lat. 25°57′48″ N, to the intersection of a 15 nautical mile radius of Miami International Airport, thence clockwise along the 15 nautical mile radius to lat. 25°57′48″ N, thence east along lat. 25°57′48″ N, to the intersection of a 20 nautical mile radius of Miami International Airport, thence clockwise along the 20 nautical mile radius to the Dolphin VORTAC (DHP) 151° radial, thence northwest along the Dolphin VORTAC (DHP) 151° radial to the intersection of a 15 nautical mile radius of Miami International Airport, thence clockwise along the 15 nautical mile radius of Miami International Airport to lat. 25°40′19″ N, thence west along lat. 25°40′19″ N, to the intersection of a 20 nautical mile radius of Miami International Airport, thence clockwise along the 20 nautical mile radius to the point of beginning, excluding the airspace within Areas A, B, and C, previously described and within Areas F, G, and H described hereinafter.

Area E. That airspace extending upward from 4,000 feet MSL to and including 7,000 feet MSL bounded on the south by lat. 25°57′48″ N, on the northwest by a 20 nautical mile radius of Miami International Airport, on the northeast by a line from lat. 26°06′02″ N, long. 80°26′27″ W, to lat. 26°01′38″ N, long. 80°23′44″ W, and on the southeast by a 15 nautical mile radius of Miami International Airport.

Area F. That airspace extending upward from but not including 1,000 feet MSL to and including 7,000 feet MSL bounded on the east by a 7 nautical mile radius of Miami International Airport, on the west by the west shoreline of Biscayne Bay, and on the south by lat. 25°42′18″ N, (SW 72nd Street in the Cities of Sunset and South Miami).

Area G. That airspace extending upward from 2,000 feet MSL to and including 7,000 feet MSL bounded on the south by lat. 25°52′03″ N (NW 103rd Street/49th Street in the City of Hialeah), on the west and northwest by State Road 997/Krome Ave, on the east by the Miami Canal (paralleling US 27), and the northern boundary point defined by the intersection of the Miami Canal and State Road 997/Krome Ave.

Area H. That airspace extending upward from 2,000 feet MSL to and including 7,000 feet MSL bounded on the west by a 13 nautical mile radius of Miami International Airport, on the south by a 4.3 nautical mile radius of Miami Executive Airport (TMB), on the east by State Road 997/Krome Ave, and on the north by a line along lat. 25°52′03″ N (NW 103rd Street/49th Street in the City of Hialeah).

Area I. That airspace extending upward from 5,000 feet MSL to and including 7,000 feet MSL beginning at the intersection of lat. 25°57′48″ N, and a 20 nautical mile radius of Miami International Airport, thence moving east along lat. 25°57′48″ N, to the intersection of a 25 nautical mile radius of Miami International Airport, thence moving clockwise along the 25 nautical mile radius to the Dolphin VORTAC 151° radial, thence northwest along the Dolphin VORTAC 151° radial to the intersection of a 20 nautical mile radius of Miami International Airport, thence counter-clockwise along the 20 nautical mile radius to the point of beginning.

Area J. That airspace extending upward from 4,000 feet MSL to and including 7,000 feet MSL beginning northwest of Miami International Airport at the intersection of a 25 nautical mile radius of Miami International Airport and lat. 25°57′48″ N, thence east along lat. 25°57′48″ N, to the intersection of a 20 nautical mile radius of Miami international Airport, thence counter-clockwise along the 20 nautical mile radius to lat. 25°40′19″ N, thence west along lat. 25°40′19″ N, to the intersection of a 25 nautical mile radius of Miami International Airport, thence clockwise along the 25 nautical mile radius to the point of beginning.

* * * * *

Issued in Washington, DC, on June 3, 2022.
Scott M. Rosenbloom,
Manager, Airspace Rules and Regulations.

[FR Doc. 2022-12300 Filed 6-8-22; 8:45 am]

BILLING CODE 4910-13-P